FEDERAL COMMUNICATIONS COMMISSION

Notice of Public Information Collection(s) Being Reviewed by the Federal Communications Commission for Extension Under Delegated Authority, Comments Requested

December 28, 2001.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before March 11, 2002. If you anticipate that you will be submitting comments, but find it difficult to do so within the period of time allowed by this notice, you should advise the contact listed below as soon as possible.

ADDRESSES: Direct all comments to Les Smith, Federal Communications Commissions, Room 1A-804, 445 Twelfth Street, SW., Washington, DC 20554 or via the Internet to lesmith@fcc.gov.

FOR FURTHER INFORMATION CONTACT: For additional information or copies of the information collections contact Les Smith at (202) 418-0217 or via the Internet at lesmith@fcc.gov.

SUPPLEMENTARY INFORMATION: OMB Approval Number: 3060-0170.

Title: Section 73.1030 Notifications concerning interference to radio astronomy, research and receiving installations.

Form No.: None.

Type of Review: Extension of currently approved collection.

Respondents: Businesses or other for-profit.

Number of Respondents: 57.

Estimated Hours Per Response: 1.5 hours (0.5 hours respondents; 1 hour contact consulting engineer).

Frequency of Response: Reporting, on occasion.

Cost to Respondents: $8,550.

Estimated Total Annual Burden: 29 hours.

Needs and Uses: Section 73.1030 requires licensees to provide written notification to the Interference Office at Green Bank, West Virginia, the Observatories at Green Bank, West Virginia, Sugar Grove, West Virginia, or the Arecibo Observatory, setting forth the particulars of a proposed station. The data are used by the Interference Office/Observatories to enable them to file comments or objections with the FCC in response to the notification in order to minimize potential interference.

Federal Communications Commission.
William F. Caton,
Deputy Secretary.

[FR Doc. 02-369 Filed 1-7-02; 8:45 am]

BILLING CODE 6712-01-P